SURFACE TRANSPORTATION BOARD

[Docket No. FD 36437]

Elwood Joliet & Southern Railroad, L.L.C.—Lease and Operation Exemption—Wisconsin Central Ltd.

Elwood Joliet & Southern Railroad, L.L.C. (EJSR), a noncarrier, has filed a verified notice of exemption under 49 CFR 1150.31 to lease from Wisconsin Central Ltd. (WCL) and operate approximately 1.2 miles of rail line extending from a point immediately east of a switch that lies 0.1 mile west of the switch at WCL milepost 2.4/Phoenix milepost 0.0 at Sprague, in Crest Hill, Ill., to Phoenix milepost 1.1 in Joliet, Ill. (Phoenix Line).

This transaction is related to a concurrently filed verified notice of exemption in Watco Holdings, Inc.—Continuance in Control Exemption—Elwood Joliet & Southern Railroad, L.L.C., Docket No. FD 36438, in which Watco Holdings, Inc., seeks to continue in control of EJSR upon EJSR's becoming a Class III rail carrier.

EJSR states that it and WCL will shortly execute agreements pursuant to which EJSR will lease the Phoenix Line from WCL and will be the operator of the Phoenix Line. EJSR further states that the proposed agreements between EJSR and WCL do not contain any provision limiting EJSR's future interchange of traffic on the Phoenix Line with a third-party connecting carrier.

EJSR certifies that its projected annual revenues as a result of this transaction will not result in EJSR's becoming a Class II or Class I rail carrier. EJSR further certifies that its projected annual revenue will not exceed $5 million.

The transaction may be consummated on or after October 28, 2020, the effective date of the exemption.

If the verified notice contains false or misleading information, the exemption is void ab initio. Petitions to revoke the exemption under 49 U.S.C. 10502(d) may be filed at any time. The filing of a petition to revoke will not automatically stay the effectiveness of the exemption. Petitions for stay must be filed no later than October 21, 2020 (at least seven days before the exemption becomes effective).

All pleadings, referring to Docket No. FD 36437, must be filed with the Surface Transportation Board either via e-filing or in writing addressed to 395 E Street SW, Washington, DC 20423-0001. In addition, a copy of each pleading must be served on EJSR's representative, Bradon J. Smith, Fletcher & Sippel LLC, 29 North Wacker Drive, Suite 800, Chicago, IL 60606-3208.

According to EJSR, this action is categorically excluded from environmental review under 49 CFR 1105.6(c) and from historic reporting requirements under 49 CFR 1105.8(b).

Board decisions and notices are available at www.stb.gov.

Decided: October 8, 2020.
By the Board, Allison C. Davis, Director, Office of Proceedings.
Kenyatta Clay,
Clearance Clerk.

[FR Doc. 2020-22693 Filed 10-13-20; 8:45 am]

BILLING CODE 4915-01-P